DEPARTMENT OF HOUSING AND URBAN DEVELOPMENT

[Docket No. FR-4757-FA-02]

Announcement of Funding Award—FY 2002 Operation Lead Elimination Action Program (LEAP)

AGENCY: Office of the Secretary—Office of Healthy Homes and Lead Hazard Control, HUD.

ACTION: Announcement of funding awards.

SUMMARY: In accordance with Section 102(a)(4)(C) of the Department of Housing and Urban Development Reform Act of 1989, this announcement notifies the public of additional funding decisions made by the Department in a competition for funding under the LEAP Notice of Funding Availability (NOFA). The purpose of the LEAP program is to leverage private sector resources to eliminate lead poisoning as a major public health threat to young children. This announcement contains the name and address of the award recipient and the amount of award.

FOR FURTHER INFORMATION CONTACT: John Baker, Department of Housing and Urban Development, Office of Healthy Homes and Lead Hazard Control, Room P3206, 451 Seventh Street, SW., Washington, DC 20410-3000, telephone (804) 771-2100 ext. 3765. Hearing- and speech-impaired persons may access the number above via TTY by calling the toll free Federal Information Relay Service at 1-800-877-8339.

SUPPLEMENTARY INFORMATION: The Operation Lead Elimination Program is authorized by HUD's 2002 Appropriation approved November 26, 2001 (Pub. L. 107-73).

These awards were the result of a competition announced in a Federal Register notice published on August 5, 2002 (67 FR 50766). The purpose of the competition was to award grant funding of approximately $6,500,000 for grants and cooperative agreements for the Lead Elimination Action Program. Applications were scored and selected on the basis of selection criteria contained in that notice.

The Catalog of Federal Domestic Assistance number for this program is 14.900.

A total of $6,500,000 was awarded to seven (7) grantees. In accordance with section 102(a)(4)(C) of the Department of Housing and Urban Development Reform Act of 1989 (103 Stat. 1987, 42 U.S.C. 3545), the Department is publishing the names, addresses, and amounts of these awards as follows:

Awardee | Address | Amount awarded
The ACCESS Agency | 1315 Main Street, Willimantic, CT 06226 | 800,000
Alliance | 227 Massachusetts Avenue, NE, Suite 200, Washington, DC 20002 | 1,152,013
Energy Programs | 1615 M Street, Suite 800, Washington, DC 20036 | 937,956
National Safety Council | 1025 Connecticut Avenue, NW, Suite 1200, Washington, DC 20036 | 679,346
National Center | 10227 Wincopin Circle, Suite 100, Columbia, MD 21044 | 930,789
Greater Detroit | 333 West Fort Street, Suite 1500, Detroit, MI 48226 | 999,896
Neighborhood Improvement | 841 North Broadway, Room 104, Milwaukee, WI 53202 | 1,000,000

Dated: November 4, 2003.
Joseph F. Smith,
Deputy Director, Office of Healthy Homes and Lead Hazard Control.

[FR Doc. 03-30414 Filed 12-8-03; 8:45 am]

BILLING CODE 4210-70-P